PEACE CORPS

Public Availability of Office of Acquisitions and Contract Management FY 2011 Service Contract Inventory

AGENCY: United States Peace Corps.

ACTION: Notice of public availability of FY 2011 Service Contract Inventories.

SUMMARY: In accordance with Section 743 of Division C of the Consolidated Appropriations Act of 2010 (Pub. L. 111-117), the Office of Acquisitions and Contract Management is publishing this notice to advise the public of the availability of the FY 2011 Service Contract inventory and FY2010 Analysis Report. This inventory provides information on service contract actions over $25,000 that were made in FY 2011. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The Office of Acquisitions and Contract Management has posted its inventory and a summary of the inventory on the Peace Corps homepage at the following link: http://www.peacecorps.gov/open/.

FOR FURTHER INFORMATION CONTACT: Questions regarding the service contract inventory should be directed to Sandra R. Harrell in the Office of Acquisitions and Contract Management at 202-692-1107 or sharrell@peacecorps.gov.

Dated: February 21, 2012.
Sandra R. Harrell,
Chief of Procurement Policy, Office of Acquisitions and Contract Management.

[FR Doc. 2012-4763 Filed 2-28-12; 8:45 am]

BILLING CODE 6015-01-P